DEPARTMENT OF JUSTICE

Notice of Lodging of Consent Decree Under the Comprehensive Environmental Response, Compensation, and Liability Act

Under a 28 CFR 50.7, notice is hereby given that on April 22, 2004, a proposed Consent Decree in United States of America, State of California, and South Coast Air Quality Management District v. Keysor-Century Corporation, Civil Action Number 04-2823-CAS (RCx), was lodged with the United States District Court for the Central District of California.

The consent decree resolves claims against one defendant, Keysor-Century Corporation (“Keysor”), brought by the United States on behalf of the Environmental Protection Agency (“EPA”), by the State of California on behalf of the Department of Toxic Substances Control and the California Regional Water Quality Control Board, Los Angeles Region, and by the South Coast Air Quality Management District under four statutes: Clean Air Act (“CAA”), 42 U.S.C. 7401-7671q; Resource Conservation and Recovery Act (“RCRA”), 42 U.S.C. 6901-6992k; Emergency Planning and Community Right-to-Know Act (“EPCRA”), 42 U.S.C. 1101-11050; and Clean Water Act (“CWA”), 33 U.S.C. 1251-1387, and their implementing regulations. The complaint alleges numerous violations of federal and state environmental laws that occurred at Defendant's polyvinyl chloride (“PVC”) manufacturing and resin compounding plant, which was formerly located at 26000 Springbrook Avenue, Saugus, Los Angeles County, California (the “Facility”).

Under the proposed Consent Decree, all civil claims in the Complaint are resolved for the following payments to be made by Keysor in Keysor's Chapter 11 bankruptcy liquidation proceeding: a $307,000 administrative expense payment; the allowance of $735,420 classified as a subordinated allowed general unsecured claim; and the allowance of $168,855 classified as an allowed general unsecured claim. In addition, Keysor is subjected to injunctive relief, including: cessation of discharges of pollutants from the Facility; certification that the vinyl chloride plant was shut down and will not be re-opened; general certification that the defendant is currently in compliance with all provisions of CAA, RCRA, EPCRA, and CWA; and an agreement that emission reductions resulting from the shutdown of the Facility shall not be banked or otherwise used as emission reduction credits to offset new emissions from other facilities in the District.

The Department of Justice will receive, for a period of thirty (30) days from the date of this publication, comments relating to the Consent Decree. Comments should be addressed to the Assistant Attorney General, Environmental and Natural Resources Division, PO Box 7611, U.S. Department of Justice, Washington, D.C. 20044-7611, and should refer to United States of America, State of California, and South Coast Air Quality Management District v. Keysor-Century Corporation, DOJ Ref. #90-5-2-1-07856/1.

The Consent Decree may be examined at the Office of the United States Attorney, 300 North Los Angeles Street, Los Angeles, California 90012, and the Region IX Office of the Environmental Protection Agency, 75 Hawthorne Street, San Francisco, CA 94105. During the public comment period, the Consent Decree may also be examined on the following Department of Justice Web site: http://www.usdoj.gov/enrd/open.html. A copy of the Consent Decree may also be obtained by mail from the Consent Decree Library, PO Box 7611, U.S. Department of Justice, Washington, DC 20044-7611, or by faxing or e-mailing a request to Tonia Fleetwood, tonia.fleetwood@usdoj.gov, Fax No. (202) 514-0097, phone confirmation number (202) 514-1547. In requesting a copy from the Consent Decree Library, please enclose a check in the amount of $15.50 (25 cents per page reproduction cost) payable to the U.S. Treasury, to obtain a copy of the Consent Decree.

Ellen Mahan,
Assistant Section Chief, Environmental Enforcement Section, Environment and Natural Resources Division.

[FR Doc. 04-10840 Filed 5-12-04; 8:45 am]

BILLING CODE 4410-15-M